DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 5, 2005.

Interested persons are invited to submit written comments regarding the subject matter of the investigations to the Director, Division of Trade Adjustment Assistance, at the address shown below, not later than December 5, 2005.

The petitions filed in this case are available for inspection at the Office of the Director, Division of Trade Adjustment Assistance, Employment and Training Administration, U.S. Department of Labor, Room C-5311, 200 Constitution Avenue, NW., Washington, DC 20210.

Signed at Washington, DC, this 15th day of November, 2005.
Erica R. Cantor,
Director, Division of Trade Adjustment Assistance.

APPENDIX

TAA Petitions Instituted Between 10/31/05 and 11/4/05
TA-W | Subject firm (petitioners) | Location | Date of institution | Date of petition
58232 | Farris Fashions, Inc. (State) | Brinkley, AR | 10/31/05 | 10/28/05
58233 | Motor Appliance, Inc. (State) | Blytheville, AR | 10/31/05 | 10/28/05
58234 | Hearthstone Enterprises (Comp) | Boone, NC | 10/31/05 | 10/28/05
58235 | MBTM Ltd, Inc. (Comp) | Munith, MI | 10/31/05 | 10/26/05
58236 | Natick Paperboard Corp. (USWA) | Natick, MA | 10/31/05 | 10/28/05
58237 | Erie Steel Products Company (Comp) | Erie, PA | 10/31/05 | 10/28/05
58238 | Eaton Corporation (USW) | Saginaw, MI | 11/01/05 | 10/24/05
58239 | Savcor Coatings, Ltd. (Wkrs) | Ft. Worth, TX | 11/01/05 | 10/27/05
58240 | GST AutoLeather (State) | Hagerstown, MD | 11/01/05 | 10/31/05
58241 | Maitlen and Benson, Inc. (State) | Long Beach, CA | 11/01/05 | 10/31/05
58242 | Visteon Corporation (UAW) | Lansdale, PA | 11/01/05 | 10/26/05
58243 | SavaJe Technologies (Wrks) | Chelmsford, MA | 11/01/05 | 10/28/05
58244 | Hexcel Corporation (Comp) | Washington, GA | 11/01/05 | 10/18/05
58245 | Agilent Technologies (Comp) | Roseville, CA | 11/01/05 | 10/27/05
58246 | Wellington Cordage (State) | Madison, GA | 11/01/05 | 10/20/05
58247 | Guilford Mills, Inc. (Wkrs) | Kenansville, NC | 11/02/05 | 10/29/05
58248 | Cerro Fabricated Products, Inc. (Wkrs) | Weyers Cave, VA | 11/02/05 | 10/11/05
58249 | FMC Idaho, LLC (Wkrs) | Pocatello, ID | 11/02/05 | 11/01/05
58250 | Independence Airlines (AMFA) | Dulles, VA | 11/02/05 | 11/01/05
58251 | Foamex LP (State) | Fort Smith, AR | 11/02/05 | 11/01/05
58252 | Flair Design Limited (Wkrs) | Alexandria, IN | 11/02/05 | 10/25/05
58253 | G and H Custom Cabinets (Comp) | Seagrove, NC | 11/02/05 | 11/02/05
58254 | WestPoint Home (Comp) | Biddeford, ME | 11/02/05 | 10/28/05
58255 | DRS-SSW (Comp) | Morgan Hill, CA | 11/02/05 | 11/01/05
58256 | Tee Time Sportsware (State) | Hazleton, PA | 11/02/05 | 10/24/05
58257 | Motorola, Inc. (Wkrs) | Tempe, AZ | 11/02/05 | 10/31/05
58258 | ATA Airlines, Inc. (Wkrs) | Chicago, IL | 11/02/05 | 10/05/05
58259 | U.S. Union Tool, Inc. (State) | Buena Park, CA | 11/04/05 | 11/02/05
58260 | Gemtron Corp. (Comp) | Holland, MI | 11/04/05 | 11/02/05
58261 | Alliance Consulting (Wkrs) | Philadelphia, PA | 11/04/05 | 10/29/05
58262 | Shuford Mills (Wkrs) | Hudson, NC | 11/04/05 | 11/02/05
58263 | Parkdale Mills, Inc. (Comp) | Belmont, NC | 11/04/05 | 10/25/05
58264 | Regency Sportswear, Inc. (Comp) | Selmer, TN | 11/04/05 | 11/02/05
58265 | VF Jeanswear Limited Partnership (Comp) | Greensboro, NC | 11/04/05 | 11/01/05
58266 | U.S. Pipe and Foundry Co. (Comp) | Chattanooga, TN | 11/04/05 | 11/02/05
58267 | G and G Hosiery (State) | Fort Payne, AL | 11/04/05 | 10/31/05
58268 | Simpson Door Company (WCIW) | McCleary, WA | 11/04/05 | 11/03/05
58269 | Easthampton Dye Works, Inc. (Comp) | Easthampton, MA | 11/04/05 | 11/03/05
58270 | UTI Integrated Logistics (Comp) | Greenville, SC | 11/04/05 | 11/01/05
58271 | Cargill, Incorporated (Comp) | Decatur, AL | 11/04/05 | 11/02/05
58272 | Sun Shade Holding (Wkrs) | El Cerrito, CA | 11/04/05 | 10/22/05
58273 | Elmer's Products, Inc. (Comp) | Bainbridge, NY | 11/04/05 | 10/13/05
58274 | Saint-Gobain Container (GMP) | Carteret, NJ | 11/04/05 | 10/27/05
58275 | Barth and Dreyfuss (State) | Ontario, CA | 11/04/05 | 10/26/05
58276 | Allegheny Energy, Inc. (Wkrs) | Greensburg, PA | 11/04/05 | 10/25/05
58277 | Quint-T Corp. (USW) | Erie, PA | 11/04/05 | 10/24/05
58278 | Bangor Electronics Co. (Comp) | Bangor, MI | 11/04/05 | 11/01/05
58279 | Jones Apparel Group (Comp) | Bristol, PA | 11/04/05 | 11/03/05
58280 | TRW (USW) | Jackson, MI | 11/04/05 | 10/31/05
58281 | H.B. Williamson Co. (Comp) | Fairfield, IL | 11/04/05 | 10/24/05

[FR Doc. E5-6466 Filed 11-22-05; 8:45 am]

BILLING CODE 4510-30-P